DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before March 4, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Fiscal Service (FS)

1. Title: Notice of Reclamation.

OMB Control Number: 1530-0003.

Type of Review: Extension without change of a currently approved collection.

Description: FS Form 133 is utilized to notify financial institutions of an obligation to repay payments erroneously issued to a deceased Federal benefit payment recipient. The information collected from the financial institutions is used by Treasury to close out the request from a program agency to collect an EFT payment from the financial institution to which a beneficiary was not entitled.

Form: FS Form 133.

Affected Public: Business or Other for-profits.

Estimated Number of Respondents: 223,128.

Frequency of Response: Once.

Estimated Total Number of Annual Responses: 223,128.

Estimated Time per Response: 8 minutes.

Estimated Total Annual Burden Hours: 29,750.

2. Title: Claims Against the U.S. for Amounts Due in Case of a Deceased Creditor.

OMB Control Number: 1530-0004.

Type of Review: Extension without change of a currently approved collection.

Description: The information is required to determine who is entitled to funds of a deceased Postal Savings depositor or deceased award holder. The form properly completed with supporting documents enables the Judgement Fund Branch to decide who is legally entitled to payment.

Form: SF 1055.

Affected Public: Individuals or Households.

Estimated Number of Respondents: 400.

Frequency of Response: Once.

Estimated Total Number of Annual Responses: 400.

Estimated Time per Response: 27 minutes.

Estimated Total Annual Burden Hours: 180.

3. Title: States Where Licensed for Surety.

OMB Control Number: 1530-0009.

Type of Review: Extension without change of a currently approved collection.

Description: Information is collected from insurance companies in order to provide Federal bond approving officers with this information. The listing of states, by company, appears in Treasury's Circular 570, “Surety Companies Acceptable on Federal Bonds.”

Form: FS Form 2208.

Affected Public: Business or Other for-profits.

Estimated Number of Respondents: 262.

Frequency of Response: Once.

Estimated Total Number of Annual Responses: 262.

Estimated Time per Response: 1 hour.

Estimated Total Annual Burden Hours: 262.

4. Title: Voucher for Payment of Awards.

OMB Control Number: 1530-0012.

Type of Review: Extension without change of a currently approved collection.

Description: Awards certified to Treasury are paid annually as funds are received from foreign governments. Vouchers are mailed to awardholders showing payments due. Awardholders sign vouchers certifying that he/she is entitled to payment.

Form: FS Form 5135.

Affected Public: Individuals or Households.

Estimated Number of Respondents: 1,400.

Frequency of Response: Once.

Estimated Total Number of Annual Responses: 1,400.

Estimated Time per Response: 30 minutes.

Estimated Total Annual Burden Hours: 700.

5. Title: Resolution Authorizing Execution of Depositary, Financial Agency, and Collateral Agreement; and Depositary, Financial Agency, and Collateral Agreement.

OMB Control Number: 1530-0017.

Type of Review: Extension without change of a currently approved collection.

Description: These forms are used to give authority to financial institutions to become a depositary of the Federal Government. They also execute an agreement from the financial institutions they are authorized to pledge collateral to secure public funds with Federal Reserve Banks or their designees.

Form: FS Form 5902 and FS Form 5903.

Affected Public: Private Sector.

Estimated Number of Respondents: 15.

Frequency of Response: Two per year.

Estimated Total Number of Annual Responses: 30.

Estimated Time per Response: 15 minutes.

Estimated Total Annual Burden Hours: 30.

6. Title: Application for Disposition of Retirement Plan/Individual Retirement Bonds Without Admin. of Deceased Owners Estate.

OMB Control Number: 1530-0032.

Type of Review: Extension without change of a currently approved collection.

Description: The information is used to support a request for recognition as a person entitled to United States Retirement Plan and/or Individual Retirement bonds which belonged to a deceased owner when a legal representative has not been appointed for the estate and no such appointment is pending.

Form: FS Form 3565.

Affected Public: Individuals or Households.

Estimated Number of Respondents: 350.

Frequency of Response: Once.

Estimated Total Number of Annual Responses: 350.

Estimated Time per Response: 20 minutes.

Estimated Total Annual Burden Hours: 117.

Authority: 44 U.S.C. 3501 et seq.

Dated: January 28, 2019.
Spencer W. Clark,
Treasury PRA Clearance Officer.

[FR Doc. 2019-00446 Filed 1-30-19; 8:45 am]

BILLING CODE 4810-AS-P